DEPARTMENT OF HEALTH AND HUMAN SERVICES

Food and Drug Administration

[Docket No. FDA-2009-D-0600]

Guidance for Industry on Tobacco Health Document Submission; Availability; Correction

AGENCY: Food and Drug Administration, HHS.

ACTION: Notice; correction.

SUMMARY: The Food and Drug Administration (FDA) is correcting a notice that appeared in the Federal Register of April 20, 2010 (75 FR 20606). The notice announced the availability of a guidance entitled “Tobacco Health Document Submission.” The notice published with an inadvertent error in the ADDRESSES section. This document corrects that error.

FOR FURTHER INFORMATION CONTACT: Joyce A. Strong, Office of Policy (HF-27), Food and Drug Administration, 5600 Fishers Lane, Rockville, MD 20957, 301-827-7010.

SUPPLEMENTARY INFORMATION: In FR Doc. 2010-9134, appearing on page 20606, in the Federal Register of Tuesday, April 20, 2010, the following correction is made:

1. On page 20606, in the second column, in the ADDRESSES section, the second sentence is corrected to read: “Send one self-addressed adhesive label to assist that office in processing your request or include a fax number to which the guidance document may be sent.”

Dated: April 27, 2010.
Leslie Kux,
Acting Assistant Commissioner for Policy.

[FR Doc. 2010-10160 Filed 4-29-10; 8:45 am]

BILLING CODE 4160-01-S